DEPARTMENT OF ENERGY

Federal Energy Regulatory Commission

18 CFR Part 35

[Docket No. RM13-2-000]

Small Generator Interconnection Agreements and Procedures

AGENCY: Federal Energy Regulatory Commission, DOE.

ACTION: Notice of proposed rulemaking.

SUMMARY: The Federal Energy Regulatory Commission (Commission) is proposing to revise the pro forma Small Generator Interconnection Procedures (SGIP) and pro forma Small Generator Interconnection Agreement (SGIA) originally set forth in Order No. 2006. The pro forma SGIP and SGIA establish the terms and conditions under which public utilities must provide interconnection service to Small Generating Facilities of no more than 20 megawatts (MW). In this Notice of Proposed Rulemaking (NOPR), the Commission proposes to modify the pro forma SGIP to: (1) Incorporate provisions that would provide an Interconnection Customer with the option of requesting from the Transmission Provider a pre-application report providing existing information about system conditions at a possible Point of Interconnection; (2) revise the 2 MW threshold for participation in the Fast Track Process included in section 2 of the pro forma SGIP; (3) revise the customer options meeting and the supplemental review following failure of the Fast Track screens so that the supplemental review is performed at the discretion of the Interconnection Customer and includes minimum load and other screens to determine if a Small Generating Facility may be interconnected safely and reliably; and (4) revise the pro forma SGIP Facilities Study Agreement to allow the Interconnection Customer the opportunity to provide written comments to the Transmission Provider on the upgrades required for interconnection. The Commission also proposes to clarify or correct certain sections of the pro forma SGIP and SGIA. The proposed reforms are intended to ensure that the time and cost to process small generator interconnect requests will be just and reasonable and not unduly discriminatory. To facilitate discussion of the proposed reforms, the Commission intends to hold a workshop at which stakeholders may discuss the proposals made in this NOPR. The workshop is to be held before the end of the comment period.

DATES: Comments are due June 3, 2013.

ADDRESSES: Comments, identified by docket number, may be filed in the following ways:

• Electronic Filing through http://www.ferc.gov. Documents created electronically using word processing software should be filed in native applications or print-to-PDF format and not in a scanned format.

• Mail/Hand Delivery: Those unable to file electronically may mail or hand-deliver comments to: Federal Energy Regulatory Commission, Secretary of the Commission, 888 First Street NE., Washington, DC 20426.

Instructions: For detailed instructions on submitting comments and additional information on the rulemaking process, see the Comment Procedures Section of this document.

FOR FURTHER INFORMATION CONTACT:

Leslie Kerr (Technical Information), Office of Energy Policy and Innovation, Federal Energy Regulatory Commission, 888 First Street NE., Washington, DC 20426, (202) 502-8540, Leslie.Kerr@ferc.gov.

Monica Taba (Technical Information), Office of Electric Reliability, Federal Energy Regulatory Commission, 888 First Street NE., Washington, DC 20426, (202) 502-6789, Monica.Taba@ferc.gov.

Elizabeth Arnold (Legal Information), Office of the General Counsel, Federal Energy Regulatory Commission, 888 First Street NE., Washington, DC 20426, (202) 502-8687, Elizabeth.Arnold@ferc.gov.

SUPPLEMENTARY INFORMATION:

Notice of Proposed Rulemaking

Table of Contents

| Paragraph Nos.
I. Introduction | 1
II. Background | 6
A. Order No. 2006 | 6
B. Solar Energy Industries Association Petition | 12
III. Need for Reform | 18
IV. Proposed Reforms | 25
A. Pre-Application Report | 26
B. Threshold for Participation in the Fast Track Process | 30
C. Customer Options Meeting and Supplemental Review | 33
D. Review of Required Upgrades | 41
E. Other Revisions | 45
V. Workshop | 47
VI. Compliance Filings | 50
VII. Procedural Matters | 54
VIII. Information Collection Statement | 56
IX. Environmental Analysis | 60
X. Regulatory Flexibility Act | 61
XI. Comment Procedures | 63
XII. Document Availability | 67

Appendix A: List of Short Names of Commenters on the SEIA Petition (Docket No. RM12-10-000) and the Technical Conference (Docket No. AD12-17-000).

Appendix B: Proposed Flow Chart for Interconnecting a Certified Small Generating Facility Using the “Fast Track Process.”

Appendix C: Proposed Revisions to the Pro Forma SGIP.

Appendix D: Proposed Revisions to the Pro Forma SGIA.

Notice of Proposed Rulemaking

January 17, 2013.

I. Introduction

1. The Commission is proposing to revise the pro forma Small Generator Interconnection Procedures (SGIP) and pro forma Small Generator Interconnection Agreement (SGIA) originally set forth in Order No. 2006.¹ The pro forma SGIP and SGIA establish the terms and conditions under which public utilities ² must provide interconnection service to Small Generating Facilities ³ of no more than 20 megawatts (MW).⁴

¹ Standardization of Small Generator Interconnection Agreements and Procedures, Order No. 2006, FERC Stats. & Regs. ¶ 31,180, order on reh 'g, Order No. 2006-A, FERC Stats. & Regs. ¶ 31,196 (2005), order on clarification, Order No. 2006-B, FERC Stats. & Regs. ¶ 31,221 (2006) (Order No. 2006).

² For purposes of this Proposed Rule, a public utility is a utility that owns, controls, or operates facilities used for transmitting electric energy in interstate commerce, as defined by the Federal Power Act (FPA). See 16 U.S.C. 824(e) (2006). A non-public utility that seeks voluntary compliance with the reciprocity condition of an Open Access Transmission Tariff (OATT) may satisfy that condition by filing an OATT, which includes the pro forma SGIP and the pro forma SGIA.

³ Capitalized terms used in this NOPR have the meanings specified in the Glossaries of Terms or the text of the SGIP or SGIA. Small Generating Facility means the device for which the Interconnection Customer has requested interconnection. The owner of the Small Generating Facility is the Interconnection Customer. The utility entity with which the Small Generating Facility is interconnecting is the Transmission Provider. A Small Generating Facility is a device used for the production of electricity having a capacity of no more than 20 MW. The interconnection process formally begins with the Interconnection Customer submitting an application for interconnection, called an Interconnection Request, to the Transmission Provider.

⁴ The pro forma SGIP and SGIA are used by a public utility to interconnect a Small Generating Facility with the utility's transmission facilities or with its jurisdictional distribution facilities for the purpose of selling electric energy at wholesale in interstate commerce.

2. Market changes, including the growth of small generator interconnection requests and the growth in solar photovoltaic (PV) installations, driven in part by state renewable energy goals and policies, necessitate a reevaluation of the SGIP and SGIA to ensure that they continue to facilitate Commission-jurisdictional interconnections in a just and reasonable and not unduly discriminatory manner.⁵ We note that the Commission has previously reviewed the Large Generator Interconnection Procedures (LGIP) after significant increases in large generator interconnection requests, mainly from wind generators, led to challenges in processing interconnection requests on a timely basis.⁶ The Commission proposes the reforms herein in the belief that failure to do so now could lead to unnecessary challenges for Small Generating Facilities in the future.⁷

⁵ Although not controlling as to interconnections subject to state jurisdiction, the Commission notes that one of the intended purposes for the small generator interconnection regulations set forth in Order No. 2006 was to serve as a guide for state interconnection procedures. See Order No. 2006, FERC Stats. & Regs. ¶ 31,180 at P 4, 8.

⁶ Docket No. AD08-2-000 explored methods to address then current queue management challenges in a manner consistent with Standardization of Generator Interconnection Agreements and Procedures, Order No. 2003, FERC Stats. & Regs. ¶ 31,146 (2003), order on reh'g, Order No. 2003-A, FERC Stats. & Regs. ¶ 31,160, order on reh'g, Order No. 2003-B, FERC Stats. & Regs. ¶ 31,171 (2004), order on reh'g, Order No. 2003-C, FERC Stats. & Regs. ¶ 31,190 (2005), aff'd sub nom. Nat'l Ass'n of Regulatory Util. Comm'rs v. FERC, 475 F.3d 1277 (D.C. Cir. 2007), cert. denied, 552 U.S. 1230 (2008) (Order No. 2003).

⁷ The Commission routinely evaluates the effectiveness of its regulations and policies in light of changing industry conditions to determine if changes in these regulations and policies are necessary. See, e.g., Integration of Variable Energy Resources, Order No. 764, 77 FR 41482 (July 13, 2012) FERC Stats. & Regs. ¶ 31,331 (2012).

3. Specifically, the Commission proposes to modify the pro forma SGIP to: (1) Incorporate provisions that would provide an Interconnection Customer with the option of requesting from the Transmission Provider a pre-application report providing existing information about system conditions at a possible Point of Interconnection; (2) revise the 2 MW threshold for participation in the Fast Track Process included in section 2 of the pro forma SGIP; (3) revise the customer options meeting and the supplemental review following failure of the Fast Track screens so that the supplemental review is performed at the discretion of the Interconnection Customer and includes minimum load and other screens to determine if a Small Generating Facility may be interconnected safely and reliably; and (4) revise the pro forma SGIP Facilities Study Agreement to allow the Interconnection Customer the opportunity to provide written comments on the upgrades required for interconnection. The Commission also proposes to clarify or correct certain sections of the pro forma SGIP and SGIA.

4. The proposals set forth in this Notice of Proposed Rulemaking (NOPR) are intended to ensure that the time and cost to process small generator interconnection requests will be just and reasonable and not unduly discriminatory as sections 205 and 206 of the FPA require.⁸ We expect the proposed reforms will reduce the time and cost to process small generator interconnection requests for Interconnection Customers and Transmission Providers, maintain reliability, increase energy supply, and remove barriers to the development of new energy sources. While the Commission proposes that all public utilities will be required to amend ⁹ their Open Access Transmission Tariffs (OATT) to include a modified pro forma SGIP and SGIA,¹⁰ these reforms will likely impact public utility Transmission Providers with a significant penetration of distributed resources and a larger number of small generator interconnection requests.

⁸ 16 U.S.C. 824a and 824b (2006).

⁹ Compliance procedures are discussed in Part VI below.

¹⁰ See proposed revisions to the pro forma SGIP in Appendix C and proposed revisions to the pro forma SGIA in Appendix D.

5. The Commission believes there is sufficient justification for proposing the reforms discussed below. In light of the technical nature of these reforms, the Commission is directing its staff to hold a workshop at which stakeholders may discuss possible refinements to the proposals made in this NOPR before the end of the comment period.¹¹ The Commission encourages interested stakeholders to participate actively in the workshop to assist the Commission in developing any appropriate improvements to the proposed reforms to the SGIP and SGIA.

¹¹ Notice of the date and time of the workshop will be published separately in the Federal Register.

II. Background

A. Order No. 2006

6. In Order No. 2006, the Commission established a pro forma SGIP and SGIA for the interconnection of generation resources no larger than 20 MW. The pro forma SGIP describes how an Interconnection Customer's interconnection request (application) should be evaluated. The pro forma SGIP includes three alternative procedures for evaluating an interconnection request. They are the Study Process, which can be used by any generating facility with a capacity no larger than 20 MW, and two procedures that use ten technical screens to quickly identify safety or reliability issues associated with proposed interconnections: (1) The Fast Track Process for certified ¹² Small Generating Facilities no larger than 2 MW; and (2) the 10 kW Inverter Process for certified inverter-based ¹³ Small Generating Facilities no larger than 10 kW.

¹² See Attachments 3 and 4 of the Order No. 2006, FERC Stats. & Regs. ¶ 31,180 pro forma SGIP, which specify the codes, standards, and certification requirements that Small Generating Facilities must meet.

¹³ An inverter is a device that converts the direct current (DC) voltage and current of a DC generator to alternating voltage and current. For example, the output of a solar panel is DC. The solar panel's output must be converted by an inverter to alternating current (AC) before it can be interconnected with a utility's AC electric system.

7. The Study Process in section 3 of the pro forma SGIP is used to evaluate small generator interconnection requests that do not qualify for either the Fast Track Process or the 10 kW Inverter Process. The Study Process is similar to the process under the LGIP set forth in Order No. 2003. The Study Process normally consists of a scoping meeting, a feasibility study, a system impact study, and a facilities study. These studies identify any adverse system impacts ¹⁴ that must be addressed before the Small Generating Facility may be interconnected and any equipment modifications required to accommodate the interconnection. Once the Interconnection Customer agrees to fund any needed upgrades, an SGIA is executed that, among other things, formalizes responsibility for construction and payment for interconnection facilities and upgrades.¹⁵

¹⁴ An adverse system impact means that technical or operational limits on conductors or equipment are exceeded under the interconnection, which may compromise the safety or reliability of the electric system.

¹⁵ Order No. 2006, FERC Stats. & Regs. ¶ 31,180 at P 44.

8. Under the current Fast Track Process, in place of the scoping meeting and three interconnection studies performed under the Study Process, technical screens are used to quickly identify reliability or safety issues. If the proposed interconnection passes the screens, the Transmission Provider offers the Interconnection Customer an SGIA without further study. If the proposed interconnection fails the screens, but the Transmission Provider determines that the Small Generating Facility may be interconnected without affecting safety and reliability, the Transmission Provider provides the Interconnection Customer with an SGIA. However, if the Transmission Provider does not or cannot determine that the Small Generating Facility may be interconnected without affecting safety and reliability, the Transmission Provider offers the Interconnection Customer the opportunity to attend a customer options meeting to discuss how to proceed. In that meeting, the Transmission Provider must: (1) Offer to perform facility modifications or minor modifications to the Transmission Provider's system (e.g., changing meters, fuses, relay settings) and provide a non-binding good faith estimate of the cost to make such modifications; (2) offer to perform a supplemental review if the Transmission Provider concludes that the supplemental review might determine that the Small Generating Facility could continue to qualify for interconnection pursuant to the Fast Track Process, paid for by the Interconnection Customer, and provide a non-binding good faith estimate of the cost of that review; or (3) obtain the Interconnection Customer's agreement to continue evaluating the interconnection request under the Study Process. If the Transmission Provider determines in the supplemental review that the Small Generating Facility can be interconnected safely and reliably and the Interconnection Customer agrees to pay for any upgrades called for in the supplemental review, the Transmission Provider and the Interconnection Customer execute an SGIA. If, after the supplemental review, the Transmission Provider still is unable to determine that the proposed interconnection would not degrade the safety and reliability of its electric system, the Interconnection Request is evaluated using the Study Process.

9. The 10 kW Inverter Process is available for the interconnection of certified inverter-based generators no larger than 10 kW. The 10 kW Inverter Process includes a simplified application form, interconnection procedures, and a brief set of terms and conditions (rather than a separate interconnection agreement). The 10 kW Inverter Process uses the same technical screens as the Fast Track Process. If the results of the analysis using the technical screens indicate that the generator can be interconnected safely and reliably, the interconnection application is approved. To simplify the 10 kW Inverter Process, the Interconnection Customer agrees to the terms and conditions of the interconnection at the time the interconnection request is made.¹⁶

¹⁶ Id. P 46.

10. The technical screens used in the current 10 kW Inverter Process and the current Fast Track Process are included in section 2.2.1 of the pro forma SGIP. The following is section 2.2.1.2 of the pro forma SGIP, which is referred to in this NOPR as the 15 Percent Screen: ¹⁷

¹⁷ The 15 Percent Screen was derived by using a “rule of thumb” that minimum load is approximately 30 percent of peak load. To assure minimum loads were not exceeded by generation on a given line section, a 50 percent safety margin was applied. See Nat'l Renewable Energy Lab, Updating Interconnection Screens for PV System Integration 2 (Feb. 2012), http://www.nrel.gov/docs/fy12osti/54063.pdf.

For interconnection of a proposed Small Generating Facility to a radial distribution circuit, the aggregated generation, including the proposed Small Generating Facility, on the circuit shall not exceed 15 [percent] of the line section annual peak load as most recently measured at the substation. A line section is that portion of a Transmission Provider's electric system connected to a customer bounded by automatic sectionalizing devices or the end of the distribution line.

11. The Commission anticipated potential changes to its small generator interconnection regulations when it encouraged stakeholders to convene an informal meeting “biennially, beginning two years from the issuance of this order, to consider and recommend consensus proposals for changes in the Commission's rules for small generator interconnection.” ¹⁸ The Commission is unaware of any such meetings taking place to date.

¹⁸ Order No. 2006, FERC Stats. & Regs. ¶ 31,180 at P 118.

B. Solar Energy Industries Association Petition

12. On February 16, 2012, pursuant to sections 205 and 206 of the FPA and Rule 207 of the Commission's Rules of Practice and Procedure,¹⁹ and noting that the Commission encouraged stakeholders to submit proposed revisions to the regulations set forth in Order No. 2006,²⁰ the Solar Energy Industries Association (SEIA) filed a Petition to Initiate Rulemaking (Petition) requesting that the Commission revise the pro forma SGIA and SGIP set forth in Order No. 2006. SEIA asserts that the pro forma SGIP and SGIA as applied to small solar generation are no longer just and reasonable, have become unduly discriminatory, and present unreasonable barriers to market entry.²¹ SEIA notes that its Petition applies exclusively to solar electric generation due to its unique characteristics.²²

¹⁹ 18 CFR 385.207 (2012).

²⁰ SEIA Petition at 4 (citing Order No. 2006, FERC Stats. & Regs. ¶ 31,180 at P 118).

²¹ SEIA Petition at 12.

²² Id. at 4 (explaining that solar generation occurs only during daylight hours when peak load typically occurs, and solar photovoltaic technology utilizes inverters with built-in functions that protect the safety and reliability of the electric system).

13. SEIA requests that the Commission modify the SGIP in three ways. First, SEIA requests that the Commission maintain section 2.2.1.2 of the pro forma SGIP (the 15 Percent Screen), but amend the pro forma SGIP to include a well-defined supplemental review that Transmission Providers must offer to provide Interconnection Customers in the event that a Small Generating Facility fails the 15 Percent Screen.²³

²³ On May 8, 2012, SEIA filed supplemental comments in Docket No. RM12-10-000, clarifying that it supports the supplemental review screens included in the revision to California Electric Rule 21, the California distribution level interconnection rules and regulations (Rule 21). These screens create thresholds for distributed generation penetration based on minimum load and establish criteria for power quality, voltage, safety and reliability.

14. Second, SEIA requests that the Commission eliminate the 2 MW threshold for participation in the Fast Track Process or, in the alternative, increase the threshold to 10 MW.²⁴

²⁴ SEIA Petition at 16-17.

15. Finally, SEIA encourages the Commission to modify the SGIP to provide, at the request and cost of the Interconnection Customer, an expedited, independent third-party expert technical review of proposed upgrades required for interconnection to evaluate whether there are simpler, less costly options to insure a safe and reliable interconnection. SEIA also encourages the Commission to clearly articulate that Transmission Providers are required to give such independent third-party reviews “substantial weight” or consideration.²⁵

²⁵ Id. at 17-18.

16. On February 28, 2012, the Commission issued a Notice of Petition for Rulemaking in Docket No. RM12-10-000, seeking public comment on SEIA's Petition. The Commission received twenty-three timely comments, two protests, two out-of-time comments, and four answers and reply comments.²⁶

²⁶ See Appendix A: List of Short Names of Commenters on the SEIA Petition (Docket No. RM12-10-000) and the Technical Conference (Docket No. AD12-17-000).

17. On June 13, 2012, the Commission issued a Notice of Technical Conference in Docket No. RM12-10-000 and in Docket No. AD12-17-000. On July 17, 2012, the Commission convened a technical conference at its headquarters. The Commission received nine post-technical conference comments, including clarifying comments from SEIA.

III. Need for Reform

18. The Commission preliminarily finds that the reforms proposed in this NOPR are needed to ensure that the rates, terms, and conditions of interconnection service for Small Generating Facilities are just and reasonable and not unduly discriminatory or preferential.

19. Since the issuance of Order No. 2006, many aspects of the energy industry have changed. For example, when Order No. 2006 was issued in 2005, only 79 MW of grid-connected PV were installed.²⁷ By 2011, grid-connected PV had reached approximately 4,000 MW.²⁸ Similarly, installed wind generation with a capacity of 20 MW or less has increased in the contiguous United States from 1,185 MW in 2005 to 2,961 MW in 2012.²⁹

²⁷ See Nat'l Renewable Energy Lab, Updating Small Generator Interconnection Procedures for New Market Conditions 7 (Dec. 2012), http://www.nrel.gov/docs/fy13osti/56790.pdf.

²⁸ Id. at 8.

²⁹ SNL Financial, Power Plant Summary (2013).

20. Recent Commission filings have referenced higher volumes of small generator interconnection requests.³⁰ Additionally, state renewable portfolio standards are driving small generator interconnection requests and influencing state policies. As of November 2012, 29 states and the District of Columbia had renewable portfolio standards, with an additional eight states having renewable portfolio goals.³¹ Some state renewable portfolio standards include increasing the percentage of renewable energy resources over time, which will lead to increasing penetrations of these energy resources. For example, the California renewable portfolio standard is 20 percent by December 31, 2013, 25 percent by December 31, 2016, and 33 percent by 2020.³² Similarly, the Massachusetts renewable portfolio standard is 15 percent by 2020 and an additional 1 percent each year thereafter.³³

³⁰ See, e.g., Cal. Indep. Sys. Operator Corp., 133 FERC ¶ 61,223, at P 3 (2010) (stating that an increasing volume of small generator Interconnection Requests had created inefficiencies); Pacific Gas & Elec. Co., 135 FERC ¶ 61,094, at P 4 (2011) (stating that increased small generator Interconnection Requests resulted in a backlog of 170 requests over three years); PJM Interconnection, LLC, 139 FERC ¶ 61,079, at P 12 (2012) (stating that smaller projects comprised 66 percent of recent queue volume).

³¹ See Dep't of Energy, Summary Maps, http://www.dsireusa.org/summarymaps/index.cfm?ee=1&RE=1.

³² See Dep't of Energy, California Incentives/Policies for Renewables & Efficiency: Renewables Portfolio Standard, http://www.dsireusa.org/incentives/incentive.cfm?Incentive_Code=CA25R&re=1&ee=1.

³³ See Dep't of Energy, Massachusetts Incentives/Policies for Renewables & Efficiency: Renewables Portfolio Standard, http://www.dsireusa.org/incentives/incentive.cfm?Incentive_Code=MA05R&re=1&ee=1.

21. Some states have also adopted goals and policies to promote growth in distributed generation. For example, Arizona, Colorado, and Illinois have implemented distributed generation “carve-outs” in which a percentage of the total state renewable portfolio standard must come from distributed generation.³⁴ At the July 17, 2012 technical conference, the increase in distributed generation since the issuance of Order No. 2006 was noted.³⁵

³⁴ See Dep't of Energy, Summary Maps, http://www.dsireusa.org/summarymaps/index.cfm?ee=1&RE=1.

³⁵ July 17, 2012 Technical Conference Transcript at 26, lines 22-24.

22. The growth in PV installations in particular has been cited by SEIA and IREC as evidence that there is a need to reform certain aspects of the SGIP,³⁶ while the California Utilities, NRECA and APPA state that this growth is evidence that Order No. 2006 has been and continues to be successful at facilitating interconnection of Small Generating Facilities.³⁷ These positions are not mutually exclusive. The success of Order No. 2006 in facilitating small generator interconnections could be a factor in penetration levels reaching 15 percent on certain line sections, which causes subsequent projects to fail the 15 Percent Screen. If this is the case, the 15 Percent Screen should be re-examined to determine if revisions to the screen can be made that will continue to allow projects to participate in the less costly and time-consuming Fast Track Process while maintaining the safety and reliability of the Transmission Provider's system.

³⁶ SEIA Petition at 6; IREC March 27, 2012 Comments at 7-8.

³⁷ California Utilities Post-Technical Conference Comments at 3-4; NRECA and APPA March 27, 2012 Protest at 7.

23. Moreover, the Commission intended the pro forma SGIP and SGIA to apply to interconnections made subject to a jurisdictional OATT for the purposes of jurisdictional wholesale sales while also serving as a model for state interconnection rules.³⁸ In its comments on the Petition, the NJBPU stated support for keeping the pro forma SGIP current with technological advances and newly developed solutions for interconnecting small generators.³⁹ The California PUC recommends that the Commission consider adopting a supplemental review, including a 100 percent of minimum load screen similar to the one in Rule 21, for projects that fail the initial 15 Percent Screen and consider increasing the 2 MW threshold for participation in the Fast Track Process.⁴⁰ Comments such as these indicate that the Commission's actions to update its SGIP may assist states in their own efforts to reevaluate state interconnection rules.

³⁸ Order No. 2006, FERC Stats. & Regs. ¶ 31,180 at P 8.

³⁹ NJBPU March 27, 2012 Comments at 2-3.

⁴⁰ California PUC April 9, 2012 Comments at 4, 9.

24. The Commission acknowledges that the need for reform may not be uniform across the country and is proposing reforms that, in implementation, should balance the interests of Small Generating Facilities and public utility Transmission Providers.

IV. Proposed Reforms

25. The Commission is proposing four reforms that are designed to address interconnection issues confronting Small Generating Facilities and public utility Transmission Providers and that will allow for the more efficient interconnection of small generation resources to the benefit of customers. The Commission also proposes to clarify or correct certain sections of the pro forma SGIP and SGIA. Together these proposals would reform certain aspects of the SGIP and SGIA that may present barriers to the interconnection of Small Generating Facilities and keep the cost of interconnecting these resources from becoming unjust, unreasonable or unduly discriminatory.

A. Pre-Application Report

26. The Commission proposes to provide the Interconnection Customer with the option of requesting a pre-application report from the Transmission Provider for a fee of $300. The Commission believes the pre-application report will promote transparency and efficiency in the interconnection process. In most cases, a pre-application report would increase the amount of information available to Interconnection Customers regarding system conditions at a particular Point of Interconnection and help the Interconnection Customer make a more efficient decision on siting its generating facility. Currently, only limited information is available to the Interconnection Customer under section 1.2 of the pro forma SGIP (relevant system studies, interconnection studies and other materials useful to an understanding of an interconnection at a particular point on the system), often leading developers to submit multiple requests for interconnection for a single project to determine which Point of Interconnection is the most advantageous. A pre-application report would enable Interconnection Customers to better evaluate possible Points of Interconnection before submitting a formal interconnection request, reducing the volume of interconnection requests and increasing the efficiency of the interconnection process for both the Transmission Provider and the Interconnection Customer.

27. The proposed revision includes new sections 1.2.2 through 1.2.4 of the SGIP and specifies the timeframes for providing the pre-application report, the $300 payment requirement from the Interconnection Customer to the Transmission Provider for producing the pre-application report, and the information that the report should contain. The pre-application report, as proposed, would only include information already available to the Transmission Provider. The proposed fee is the same as the amount required for the Rule 21 pre-application report.

28. To request a pre-application report, the developer must provide sufficient information to clearly identify the proposed Point of Interconnection. After a request is received, a utility must provide the report within ten business days. The utility is only required to provide existing information; the utility is not required to obtain new information prior to preparing the pre-application report. To the extent information is available, the Transmission Provider is required to provide information regarding:

a. Total capacity and available capacity of the facilities that serve the Point of Interconnection;

b. Existing and queued generation at the facilities likely serving the Point of Interconnection;

c. Voltage of the facilities that serve the Point of Interconnection;

d. Circuit distance between the proposed Point of Interconnection and the substation likely to serve the Point of Interconnection (Substation);

e. Number and rating of protective devices and number and type of voltage regulating devices between the proposed Point of Interconnection and the Substation;

f. Number of phases available at the proposed Point of Interconnection;

g. Limiting conductor ratings from the proposed Point of Interconnection to the Substation;

h. Peak and minimum load data; and

i. Existing or known constraints associated with the Point of Interconnection.

29. Several commenters express support for this proposal as a way to improve the interconnection process by making it less costly and more transparent, timely, and predictable.⁴¹ The California Utilities argue that this approach will provide more accurate information for Interconnection Customers and will be less costly than publishing minimum load data as originally proposed by SEIA.⁴² IREC notes that in its experience, generation developers may submit multiple interconnection requests in an effort to find the most cost effective Point of Interconnection. IREC asserts that it is inefficient for utilities to process interconnection requests that are unlikely to result in interconnections and that this raises project development costs for generators.⁴³ IREC states that a pre-application report would allow developers to request specific system information about a proposed Point of Interconnection.⁴⁴

⁴¹ California Utilities Post-Technical Conference Comments at 6-7; IREC Post-Technical Conference Comments at 4-8; and Clean Coalition Post-Technical Conference Comments at 9.

⁴² California Utilities Post-Technical Conference Comments at 6-7.

⁴³ IREC Post-Technical Conference Comments at 5.

⁴⁴ Id. at 7 (referencing IREC's Proposed SGIP Redline at § 1.2.2).

B. Threshold for Participation in the Fast Track Process

30. The Commission proposes to revise the 2 MW threshold for participation in the Fast Track Process. The Commission proposes to base Fast Track eligibility on individual system and generator characteristics, up to a limit of 5 MW. These characteristics include interconnection voltage level, the circuit distance of the interconnection from the substation, and generator capacity as the basis for determining whether an Interconnection Customer is eligible to be evaluated under the Fast Track Process. This approach to base Fast Track eligibility on individual system and generator characteristics is similar to the proposal submitted by IREC,⁴⁵ as shown in the table below.

⁴⁵ Id. at 9-10.

Line voltage | Fast track eligibility regardless of location | Fast track eligibility on ≥ 600 ampere line and ≤ 2.5 miles from substation
< 5 kilovolt (kV) | ≤ 1 MW | ≤ 2 MW
≥ 5 kV and < 15 kV | ≤ 2 MW | ≤ 3 MW
≥ 15 kV and < 30 kV | ≤ 3 MW | ≤ 4 MW
≥ 30 kV | ≤ 4 MW | ≤ 5 MW

31. The Commission has designed this proposal in recognition that, as IREC comments,⁴⁶ a fixed size limit for the Fast Track may be unduly conservative in some cases and not conservative enough in others due to variations in distribution line voltage. Commenters point to voltage at the Point of Interconnection as a possible determinant of Fast Track eligibility.⁴⁷ Other factors mentioned by commenters include the size of the generator and the location of the interconnection on the circuit.⁴⁸ Voltage and generator size were factors in the different Fast Track thresholds that were agreed upon in the Rule 21 settlement process.⁴⁹ Pacific Gas and Electric states that it has eliminated the 2 MW limit entirely within its systems, and instead utilizes soft cap guidelines specific to the voltage of the Point of Interconnection. Pacific Gas and Electric asserts that it chose the advisory caps because they represent rough estimates of the MW size that would violate the 15 Percent Screen on a fully loaded circuit if no other projects interconnect to that circuit.⁵⁰ San Diego Gas & Electric supports the varied Rule 21 Fast Track eligibility limits, which it claims “recognize the variability among electrical systems.” ⁵¹

⁴⁶ Id. at 9.

⁴⁷ See July 17, 2012 Technical Conference Transcript at 35, lines 8-11 (San Diego Gas & Electric stating that higher voltages may allow for higher penetrations of distributed generation); see also id. at 105, lines 14-16 (EEI commenting that a Fast Track threshold based on voltage would be more accurate than the current 2 MW threshold).

⁴⁸ See id. at 35, lines 1-4 (San Diego Gas & Electric asserting that size and location of the Small Generating Facility may impact the amount of generation that may be interconnected safely and reliably); id. at 59 lines 10-16 (same). See also id. at 38, lines 19-21 (IREC stating that locations within 2.5 miles of the relevant substation on 600 Ampere line allow for higher penetrations of distributed generation).

⁴⁹ See California PUC Motion to Lodge, Attachment B “Revised Rule 21 Tariff” at 26.

⁵⁰ Pacific Gas and Electric March 27, 2012 Comments at 4 (citing Pacific Gas and Electric Company, 135 FERC ¶ 61,094 (2011)).

⁵¹ San Diego Gas & Electric March 27, 2012 Comments at 8-9.

32. The Commission notes that CAISO has a 5 MW threshold for participation in its Fast Track Process.⁵² In its proposal to increase its Fast Track threshold from 2 MW to 5 MW, CAISO stated that, from an engineering standpoint, the increase is relatively small and would cause no greater impact on the safety and reliability of the CAISO-controlled transmission grid.⁵³ The Commission acknowledges, however, that there are a wide range of operating practices and electric system configurations. The Commission believes that in the instant proceeding, the proposed revision to the Fast Track threshold is appropriately based on individual system and generator characteristics that allow it to accommodate a variety of operating practices and electric system configurations while also maintaining safety and reliability. Thus, this proposal attempts to balance Interconnection Customers' need for a faster, less costly interconnection process with Transmission Providers' need to ensure the safety and reliability of their systems.

⁵² Cal. Indep. Sys. Operator Corp., 133 FERC ¶ 61,223 (2010).

⁵³ Id. P 35.

C. Customer Options Meeting and Supplemental Review

33. The Commission proposes to revise the customer options meeting and the supplemental review for those Interconnection Customers whose projects fail any of the ten Fast Track screens, including the 15 Percent Screen.⁵⁴ As noted in the Background section above, if the proposed Small Generating Facility passes the initial review screens in section 2.2.1 of the pro forma SGIP, the Transmission Provider will offer the Interconnection Customer an SGIA without requiring any supplemental review. If the proposed Small Generating Facility fails any of the screens, but the Transmission Provider determines that the Small Generating Facility may be interconnected without affecting safety and reliability, the Transmission Provider provides the Interconnection Customer with an SGIA. If the Transmission Provider cannot determine that the Small Generating Facility may be interconnected without affecting safety and reliability, the Transmission Provider must offer the Interconnection Customer the opportunity to attend a customer options meeting as set forth in section 2.3 of the pro forma SGIP to discuss how to proceed. The Commission proposes that, in that meeting, the Transmission Provider must: (1) Offer to perform facility modifications or minor modifications to the Transmission Provider's system (e.g., changing meters, fuses, relay settings) and provide a non-binding good faith estimate of the cost to make such modifications, and if the Interconnection Customer agrees to pay for those minor modifications, the Transmission Provider will provide the Interconnection Customer an SGIA within 5 business days of the customer options meeting; (2) offer to perform a supplemental review of the proposed interconnection, paid for by the Interconnection Customer in the amount of $2,500; ⁵⁵ or (3) obtain the Interconnection Customer's agreement to continue evaluating the interconnection request under the Study Process.

⁵⁴ The current and proposed supplemental review is available to Interconnection Customers whose projects are being evaluated under the Fast Track Process. If a project is being evaluated under the 10 kW Inverter Process and it fails the screens in section 2.2.1 of the pro forma SGIP, it may then be evaluated under the Fast Track Process or the Study Process. If it is evaluated under the Fast Track Process, the supplemental review would be available to the project. (See Order No. 2006, FERC Stats. & Regs. ¶ 31,180 Appendix D, “Flow Chart for Interconnecting a Certified Inverter-Based Small Generating Facility No Larger than 10 kW Using the “10 kW Inverter Process”.)

⁵⁵ The proposed $2,500 fee for the supplemental review is the same as the amount required for the Rule 21 supplemental review.

34. In order to clarify the outcome of the customer options meeting, the Commission proposes to modify section 2.3.1 of the pro forma SGIP to require the Transmission Provider to provide an interconnection agreement to the Interconnection Customer within 5 business days of the customer options meeting if the Interconnection Customer agrees to pay for minor modifications on the Transmission Provider's system. In addition, the Commission proposes to modify section 2.3.2 of the pro forma SGIP so that the supplemental review is performed at the discretion of the Interconnection Customer.

35. Further, the Commission proposes that the supplemental review consist of three additional screens: (1) The 100 percent of minimum load screen (using daytime minimum load for small solar generators (20 MW or less) and absolute minimum load for all other Small Generating Facilities) (Minimum Load Screen); (2) the power quality and voltage screen; and (3) the safety and reliability screen.⁵⁶ If the proposed interconnection fails any of the supplemental review screens, the Transmission Provider will notify the Interconnection Customer that a Study Process under section 3 of the pro forma SGIP is required.⁵⁷

⁵⁶ These screens are similar to the California Rule 21 screens or tests. See California PUC Motion to Lodge, Attachment B “Revised Rule 21 Tariff,” Section G.2 “Supplemental Review Screens” detailing the following screens:

(1) Penetration Test: “Where 12 months of line section minimum load data is available, can be calculated, can be estimated from existing data, or determined from a power flow model, is the aggregate Generating Facility capacity on the Line Section less than 100 [percent] of the minimum load for all line sections bounded by automatic sectionalizing devices upstream of the Generating Facility?” Note that the “type of generation will be taken into account when calculating, estimating or determining circuit or Line Section minimum load relevant for the application of this screen. Solar generation systems with no battery storage use daytime minimum load (i.e. 10 a.m. to 4 p.m. for fixed panel systems and 8 a.m. to 6 p.m. for PV systems utilizing tracking systems), while all other generation uses absolute minimum load.”

(2) Power Quality and Voltage Tests: (a) “Can it be determined within the Supplemental Review that the voltage regulation on the line section can be maintained in compliance with Commission Rule 2 and/or Conservation Voltage Regulation voltage requirements under all system conditions?” (b) “Can it be determined within the Supplemental Review that the voltage fluctuation is within acceptable limits as defined by [Institute of Electrical and Electronics Engineers] IEEE 1453 or utility practice similar to IEEE 1453?” (c) “Can it be determined within the Supplemental Review that the harmonic levels meet IEEE 519 limits at the Point of Common Coupling (PCC)?”

(3) Safety and Reliability Tests: “Does the location of the proposed Generating Facility or the aggregate generation capacity on the Line Section create impacts to safety or reliability that cannot be adequately addressed without Detailed Study?”

⁵⁷ See supra P 7 for a description of the Study Process.

36. The Minimum Load Screen is designed to ensure that power flow from the circuit into the substation and its impact on equipment loading, operation, and protection systems is minimal. The Minimum Load Screen asks whether the aggregate generation facility capacity on a line section is less than 100 percent of the minimum load measured during the period relevant for the generator type for all line sections bounded by automatic sectionalizing devices upstream of the generation facility. If minimum load data are not readily available,⁵⁸ however, the screen allows Transmission Providers the flexibility to calculate, estimate, or otherwise determine minimum load. The Commission proposes that, if this is not possible, the Transmission Provider must notify the Interconnection Customer of this in writing and include the reason(s) it is not possible.

⁵⁸ Commenters express concern that minimum load data are not commonly tracked by utilities. See July 17, 2012 Technical Conference Transcript at 127, lines 16-19; EEI Post-Technical Conference Comments at 15; SEIA Post-Technical Conference Comments at 3.

37. The second screen, related to voltage and power quality, is designed to ensure that voltage regulation, fluctuation, and harmonic levels are kept within their limits in compliance with reliability standards, IEEE standards, and other applicable standards. The third screen, related to safety and reliability, ensures that a Small Generating Facility would not negatively impact safety and reliability. This screen is intended to provide Transmission Providers with the flexibility to identify some of the specific issues that may arise due to a Small Generating Facility's unique variations.

38. This proposed reform is intended to decrease interconnection costs in areas where the penetration of Small Generating Facilities is causing Interconnection Customers to fail the 15 Percent Screen. Moreover, the additional screens proposed to be included in the supplemental review are designed to protect the safety and reliability of the Transmission Provider's system while allowing those Small Generating Facilities that pass the proposed supplemental review to interconnect more efficiently and cost-effectively.

39. Some commenters argue that that 15 Percent Screen continues to be effective.⁵⁹ Others suggest revisions to the pro forma supplemental review in the event a project fails the Fast Track screens, similar to California Rule 21.⁶⁰ The Commission believes that the Rule 21 approach, after which our proposal is modeled, is a reasonable middle ground and proposes to leave the 15 Percent Screen in place while providing an alternative to the 15 Percent Screen as part of the supplemental review that enables penetration levels to exceed 15 percent on a case-by-case basis if the Transmission Provider determines that doing so will not create safety or reliability problems.

⁵⁹ See SoCal Edison March 27, 2012 Comments at 6; EEI Post-Technical Conference Comments at 11-13.

⁶⁰ Clean Coalition Post-Technical Conference Comments at 3-4; IREC Post-Technical Conference Comments at 14; SEIA May 8, 2012 Comments at 1; California PUC April 9, 2012 Comments at 4; EEI Post-Technical Conference Comments at 11, fn. 10 (“Whereas the 100 percent minimum load threshold may be appropriate in the context of a supplemental review process such as the California Rule 21 proceeding.”).

40. While SoCal Edison argues that the existing pro forma SGIP supplemental review offers utilities the flexibility to reevaluate projects that fail the Fast Track screens, including accounting for the unique characteristics of solar generation,⁶¹ we note that section 2.4 of the current pro forma SGIP does not define the parameters or the timeline and provides little guidance for conducting the supplemental review if a Small Generating Facility fails the Fast Track screens in section 2 of the SGIP. The Commission believes that this lack of definition and transparency could negatively impact the interconnection process. A well-defined supplemental review will provide greater transparency with regard to what transpires in the supplemental review, as well as mitigate confusion and delays in the interconnection timeline. It will also allow interconnection requests to be more expeditiously reviewed while maintaining safety, reliability, and power quality standards.

⁶¹ SoCal Edison March 27, 2012 Comments at 5.

D. Review of Required Upgrades

41. The Commission proposes to revise the pro forma SGIP to give the Interconnection Customer an opportunity to review and comment on the upgrades required for interconnection proposed by the Transmission Provider, similar to the opportunity for review and comment afforded the Interconnection Customer under the LGIP.

42. The Commission believes that, because the Transmission Provider is responsible for the safety and reliability of its system, the Transmission Provider should make the final decision regarding required upgrades for interconnection. However, the Commission is concerned that the pro forma SGIP (including the pro forma Facilities Study Agreement) may result in unjust and unreasonable interconnection costs as a result of failing to provide an opportunity for the Interconnection Customer to review and comment on the required upgrades. Therefore, the Commission proposes to revise the pro forma SGIP to include provisions similar to those in sections 8.3 and 8.4 of the pro forma LGIP.

43. In the LGIP, the Interconnection Customer has the opportunity to provide written comments on the draft facilities study report, which includes the proposed upgrades required for interconnection. The Transmission Provider must include these comments in the final report and may alter the study based on the comments. In addition, upon request of the Interconnection Customer, the Transmission Provider must provide the Interconnection Customer with “supporting documentation, workpapers, and databases or data” developed in the preparation of the facilities study. The LGIP also provides for a meeting between the Interconnection Customer and the Transmission Provider within ten business days of the Interconnection Customer receiving the draft facilities study report.

44. The Commission believes that incorporating these pro forma LGIP provisions into the pro forma SGIP will encourage a dialogue between the Transmission Provider and the Interconnection Customer about required interconnection upgrades and will provide Interconnection Customers (or a third party designated by the Interconnection Customer) with a meaningful opportunity to review and comment on interconnection upgrade requirements.

E. Other Revisions

45. The Commission proposes to clarify or correct certain sections of the pro forma SGIP and SGIA. First, in section 3.3.5 of the pro forma SGIA, we propose to replace the first word of the section (“This”) with “The.” Second, the Commission proposes to revise section 1.1.1 of the pro forma SGIP to require that if an Interconnection Customer wishes to interconnect its Small Generating Facility using Network Resource Interconnection Service, it must do so under the LGIP and execute the Large Generator Interconnection Agreement. This requirement was included in Order No. 2003 ⁶² but was not made clear in the pro forma SGIP. To facilitate this clarification, we propose to add the definitions of Network Resource and Network Resource Interconnection Service to Attachment 1, Glossary of Terms, of the pro forma SGIP.

⁶² Order No. 2003, FERC Stats. & Regs. ¶ 31,146 at P 140.

46. The Commission also proposes to modify section 1.5.4 of the pro forma SGIA to address a reliability concern resulting from recently identified issues in Germany and the United States (U.S.). The German issue is related to over-frequency resulting from imbalances between generation and load.⁶³ The specific cause of over-frequency in Germany is not yet an issue in the U.S., although over-frequency events have occurred in the U.S.⁶⁴ The North American Electric Reliability Corporation (NERC) has identified a related bulk electric system reliability concern as part of its Frequency Response Initiative ⁶⁵ where residential and commercial scale PV systems could trip during under-frequency conditions. This could become a matter of concern at high penetrations of PV resources. While the German government has ordered the retrofit of thousands of PV systems at significant cost to address its frequency issue,⁶⁶ the Commission proposes to prevent such problems with frequency now to mitigate this risk. The proposed revisions to section 1.5.4 of the pro forma SGIA will require the Interconnection Customer to design, install, maintain, and operate its Small Generating Facility, in accordance with the latest version of the applicable standards,⁶⁷ to prevent automatic disconnection during an over- or under-frequency event and to ensure that rates remain just and reasonable.

⁶³ In Germany, large amounts of distributed PV installations are set to trip at frequency 50.2 Hz or higher. An over-frequency (50.2 Hz and higher) event can cause the PV generation equipment connected to the low-voltage network to shut down. Such a sudden drop in generation could seriously disrupt the system.

⁶⁴ See FERC & NERC, Arizona-Southern California Outages on September 8, 2011: Causes and Recommendations (2011), http://www.nerc.com/files/AZOutage_Report_01MAY12.pdf.

⁶⁵ NERC, Frequency Response Initiative Report: The Reliability Role of Frequency Response 52 (2012), http://www.nerc.com/docs/standards/dt/FRI_Report_w-appendices_10-15-12.pdf.

⁶⁶ See VDE, Study on the 50.2 Hz Problem (2012), http://www.vde.com/en/fnn/Documents/FNN_50-2-Hz_Praesentation_2011-09_engl.pdf.

⁶⁷ See, e.g., IEEE Standard 1547 for Interconnecting Distributed Resources with Electric Power Systems and Underwriters Laboratories Inc. Standard 1741 for Safety for Inverters, Converters, and Controllers for Use in Independent Power Systems.

V. Workshop

47. Commenters ⁶⁸ suggest that the Commission convene a stakeholder working group or similar process as contemplated in Order No. 2006 ⁶⁹ to review and make recommendations on the proposals in the SEIA Petition and issues raised at the July 17, 2012 technical conference. In light of the technical nature of the reforms proposed above, the Commission agrees that the rulemaking process could benefit from stakeholder discussions of the NOPR proposals and other related issues. Therefore, during the comment period, the Commission will hold a workshop so that members of the public, electric industry participants, and federal and state agencies may discuss the proposals in this NOPR and possible refinements to these proposals before the end of the comment period.

⁶⁸ NRECA Post-Technical Conference Comments at 2; EEI Post-Technical Conference Comments at 1-2; and California Utilities Post-Technical Conference Comments at 7.

⁶⁹ Order No. 2006, FERC Stats. & Regs. ¶ 31,180 at P 118.

48. The workshop will be facilitated by Commission staff and will focus on the technical details of the NOPR proposals and other related issues. Some of the specific items that Commission staff anticipates addressing include:

a. Whether the characteristics proposed for Fast Track Process eligibility should be modified to protect system safety and reliability.

b. The specific content of the proposed supplemental review screens. For example,

i. Whether twelve months of minimum load data is appropriate for use in the Minimum Load Screen, or whether additional data, if available, should be required to be considered.

ii. The reasons that minimum load data are not available to Transmission Providers and what the Commission could do to encourage data availability where appropriate.

c. The content of the pre-application report.

d. Whether the fees proposed in the NOPR ($300 for the pre-application report and $2,500 for the supplemental review) are appropriate.

e. Whether storage devices could fall within the definition of Small Generating Facility included in Attachment 1 to the SGIP and Attachment 1 to the SGIA as devices that produce electricity.

We will schedule the workshop so that comments on this Proposed Rule may reflect any reactions to the workshop discussions.

49. Within April 2, 2013 the Commission will announce the workshop in a separate notice. Comments related to the workshop will be due at the same time as comments on this NOPR (see the Comment Procedures section below).

VI. Compliance Filings

50. To comply with the requirements of this Proposed Rule, the Commission proposes to require each public utility Transmission Provider to submit a compliance filing within six months of the effective date of the Final Rule in this proceeding revising its SGIP and SGIA or other document(s) subject to the Commission's jurisdiction as necessary to demonstrate that it meets the requirements set forth in this Proposed Rule.⁷⁰

⁷⁰ See Appendix C and Appendix D for the proposed pro forma SGIP and SGIA provisions consistent with this Proposed Rule.

51. In some cases, public utility Transmission Providers may have provisions in their existing SGIPs and SGIAs that the Commission has deemed to be consistent with or superior to the pro forma SGIP and SGIA. Where these provisions are being modified by the Final Rule, public utility Transmission Providers must either comply with the Final Rule or demonstrate that these previously-approved variations continue to be consistent with or superior to the pro forma SGIP and SGIA as modified by the Final Rule.

52. The Commission will assess whether each compliance filing satisfies the proposed requirements and principles stated above and issue additional orders as necessary to ensure that each public utility Transmission Provider meets the requirements of this Proposed Rule.

53. The Commission proposes that Transmission Providers that are not public utilities will have to adopt the requirements of this Proposed Rule as a condition of maintaining the status of their safe harbor tariff or otherwise satisfying the reciprocity requirement of Order No. 888.⁷¹

⁷¹ Promoting Wholesale Competition Through Open Access Non-Discriminatory Transmission on Services by Public Utilities; Recovery of Stranded Costs by Public Utilities and Transmitting Utilities, Order No. 888, FERC Stats. & Regs. ¶ 31,036, at 31,760-763 (1996).

VII. Procedural Matters

54. On October 8, 2012, the California PUC submitted a motion to lodge California PUC Decision (D.) 12-09-018, the revised Rule 21, and the Assigned Commissioner's Amended Scoping memo and Ruling Requesting Comments (Amended Scoping Memo).⁷² In its motion, the California PUC states that its recently approved Rule 21 reforms are central to the issues raised in SEIA's Petition and should be lodged into the record of this proceeding.⁷³ No comments were filed in response to the motion.

⁷² California PUC Motion to Lodge at 1.

⁷³ Id. at 1-3.

55. We will grant the California PUC's motion to lodge California PUC Decision (D.) 12-09-018, revised Rule 21, and the Amended Scoping Memo into the record of this proceeding because the documents have provided information that assisted us in our decision-making process.

VIII. Information Collection Statement

56. The following collections of information contained in this Proposed Rule are subject to review by the Office of Management and Budget (OMB) under section 3507(d) of the Paperwork Reduction Act of 1995.⁷⁴ OMB's regulations require approval of certain information collection requirements imposed by agency rules.⁷⁵ Upon approval of a collection of information, OMB will assign an OMB control number and expiration date. Respondents subject to the filing requirements of this rule will not be penalized for failing to respond to these collections of information unless the collections of information display a valid OMB control number. The Commission solicits comments on the Commission's need for this information, whether the information will have practical utility, the accuracy of the burden estimates, ways to enhance the quality, utility, and clarity of the information to be collected or retained, and any suggested methods for minimizing respondents' burden, including the use of automated information techniques.

⁷⁴ 44 U.S.C. 3507(d) (2006).

⁷⁵ 5 CFR 1320.11 (2012).

⁷⁶ The number of responses represents the average number of responses per respondent.

⁷⁷ We assume each request for a pre-application report corresponds with one Interconnection Customer.

57. Additionally, the Commission encourages comments regarding the time burden expected to be required to comply with the proposed rule.

Burden Estimate: The additional estimated public reporting burdens for the proposed reporting requirements in this rule are as follows:

Data collection | Number of respondents | Number of responses ⁷⁶ | Hours per response | Total annual hours
FERC 516A | [1] | [2] | [3] | [1 × 2 × 3]
Conforming SGIP and SGIA changes to incorporate proposed revisions. First year only (18 CFR 35.28(f) (2012)) | 142 Transmission Providers | 1 | 6 | 852
Pre-Application Report (18 CFR 35.28(f) (2012)) | 800 Interconnection Customers ⁷⁷ | 1 | 0.5 | 400
| 142 Transmission Providers | 5.63 | 2 | 1600
Supplemental Review (18 CFR 35.28(f) (2012)) | 500 Interconnection Customers | 1 | 0.5 | 250
| 142 Transmission Providers | 3.52 | 20 | 10,000
Review of Required Upgrades (18 CFR 35.28(f) (2012)) | 250 Interconnection Customers | 1 | 1 | 250
| 142 Transmission Providers | 1.76 | 2 | 500
Totals:
First Year |  |  |  | 13,852
Year Two and Ongoing |  |  |  | 13,000

The Commission seeks comment on the change in the existing burden that would result from the following three proposed revisions that are not included in the table above. First, the Commission believes that the proposed revision of the 2 MW threshold for participation in the Fast Track Process will result in a net decrease in the public reporting burden because some Small Generating Facilities will be evaluated under the Fast Track Process rather than the Study Process. The Commission estimates that 100 Interconnection Customers annually may be able to participate in the Fast Track Process rather than the Study Process under the proposed rule. Second, the Commission proposes to revise section 2.3.2 so that the Transmission Provider is no longer required to provide a good faith estimate of the cost of performing the supplemental review to the Interconnection Customer. The Commission believes that this may result in a reduction in burden for the Transmission Provider. Third, the Commission proposes to revise section 1.1.1 of the pro forma SGIP to require that if an Interconnection Customer wishes to interconnect its Small Generating Facility using Network Resource Interconnection Service, it must do so under the LGIP and execute the Large Generator Interconnection Agreement. While this addition to the pro forma SGIP should prevent Interconnection Customers from following the SGIP where not appropriate, thereby reducing the amount of work, the Commission is unsure if it will lead to any substantive burden reduction.

Cost to Comply: The Commission has projected the cost of compliance to be $817,268 in the initial year and $767,000 in subsequent years.

Total Annual Hours for Collection in initial year (13,852 hours) @ $59/hour ⁷⁸ = $817,268.

⁷⁸ This figure is the average of the salary plus benefits for an attorney, consultant (engineer), engineer, and administrative staff. The wages are derived from the Bureau of Labor and Statistics at http://bls.gov/oes/current/naics3_221000.htm and the benefits figure from http://www.bls.gov/news.release/ecec.nr0.htm.

Total Annual Hours for Collection in subsequent years (13,000 hours) @ $59/hour = $767,000.

Title: FERC-516A, Standardization of Small Generator Interconnection Agreements and Procedures.

Action: Revision of Currently Approved Collection of Information.

OMB Control No. 1902-0203.

Respondents for this Rulemaking: Businesses or other for profit and/or not-for-profit institutions.

Frequency of Information: As indicated in the table.

Necessity of Information: The Commission is proposing changes to the pro forma SGIP and SGIA in order to more efficiently and cost-effectively interconnect generators no larger than 20 MW (small generators) to Commission-jurisdictional transmission systems. The purpose of this Proposed Rule is to revise the pro forma SGIP and SGIA so small generators can be reliably and efficiently integrated into the electric grid and to ensure that Commission-jurisdictional services are provided at rates, terms and conditions that are just and reasonable and not unduly discriminatory. This Proposed Rule seeks to achieve this goal by amending the pro forma SGIP and SGIA to: (1) Incorporate provisions that would provide an Interconnection Customer with the option of requesting from the Transmission Provider a pre-application report providing existing information about system conditions at a possible Point of Interconnection; (2) revise the 2 MW threshold for participation in the Fast Track Process included in section 2 of the pro forma SGIP; (3) revise the customer options meeting and the supplemental review following failure of the Fast Track screens so that the supplemental review is performed at the discretion of the Interconnection Customer and includes minimum load and other screens to determine if a Small Generating Facility may be interconnected safely and reliably; and (4) revise the pro forma SGIP Facilities Study Agreement to allow the Interconnection Customer the opportunity to provide written comments to the Transmission Provider on the upgrades required for interconnection. The Commission also proposes to clarify or correct certain sections of the pro forma SGIP and SGIA.

Internal Review: The Commission has reviewed the proposed changes and has determined that the changes are necessary. These requirements conform to the Commission's need for efficient information collection, communication, and management within the energy industry. The Commission has assured itself, by means of internal review, that there is specific, objective support for the burden estimates associated with the information collection requirements.

58. Interested persons may obtain information on the reporting requirements by contacting the following: Federal Energy Regulatory Commission, 888 First Street NE., Washington, DC 20426 [Attention: Ellen Brown, Office of the Executive Director], email: DataClearance@ferc.gov, Phone: (202) 502-8663, fax: (202) 273-0873.

59. Comments on the collections of information and the associated burden estimates in the proposed rule should be sent to the Commission in this docket and may also be sent to the Office of Information and Regulatory Affairs, Office of Management and Budget, 725 17th Street, NW., Washington, DC 20503 [Attention: Desk Officer for the Federal Energy Regulatory Commission], at the following email address: oira_submission@omb.eop.gov. Please reference OMB Control No. 1902-0203 and the docket number of this proposed rulemaking in your submission.

IX. Environmental Analysis

60. The Commission is required to prepare an Environmental Assessment or an Environmental Impact Statement for any action that may have a significant adverse effect on the human environment.⁷⁹ The Commission has categorically excluded certain actions from these requirements as not having a significant effect on the human environment.⁸⁰ The actions proposed here fall within categorical exclusions in the Commission's regulations for rules that are clarifying, corrective, or procedural, for information gathering, analysis, and dissemination, and for sales, exchange, and transportation of natural gas that requires no construction of facilities.⁸¹ Therefore, an environmental assessment is unnecessary and has not been prepared as part of this NOPR.

⁷⁹ Regulations Implementing the National Environmental Policy Act of 1969, Order No. 486, FERC Stats. & Regs. ¶ 30,783 (1987).

⁸⁰ 18 CFR 380.4 (2012).

⁸¹ See 18 CFR 380.4(a)(2)(ii) (2012).

X. Regulatory Flexibility Act

61. The Regulatory Flexibility Act of 1980 (RFA) ⁸² generally requires a description and analysis of proposed rules that will have significant economic impact on a substantial number of small entities. The RFA mandates consideration of regulatory alternatives that accomplish the stated objectives of a proposed rule and that minimize any significant economic impact on a substantial number of small entities. The Small Business Administration's Office of Size Standards develops the numerical definition of a small business.⁸³ The Small Business Administration has established a size standard for electric utilities, stating that a firm is small if, including its affiliates, it is primarily engaged in the transmission, generation and/or distribution of electric energy for sale and its total electric output for the preceding twelve months did not exceed four million megawatt hours (MWh).⁸⁴ The Commission estimates that the total number of Transmission Providers that, absent waiver, would have to modify their current SGIPs and SGIAs is 142. Of these, an estimated 11 Transmission Providers dispose of 4 million MWh or less per year. The Commission estimates that the average total cost for each of these entities is $5,381.⁸⁵ The Commission does not consider this to be a significant economic impact. The estimated total number of Interconnection Customers that may be subject to the requirements of this proposed rule is 800.⁸⁶ Of these, all are considered small. The Commission estimates that the total annual cost for each entity is $1,984.⁸⁷ The Commission does not consider this to be a significant economic impact. Further, the Commission expects that Interconnection Customers that are able to participate in the Fast Track Process rather than the Study Process will benefit from the proposed revisions to the pro forma SGIP.

⁸² 5 U.S.C. 601-612 (2006).

⁸³ 13 CFR 121.101 (2012).

⁸⁴ 13 CFR 121.201, Sector 22, Utilities & n.1.

⁸⁵ This number is derived by multiplying the hourly figure for Transmission Providers in the Burden Estimate table (12,952) by the cost per hour ($59) divided by the number of Transmission Providers. 12,952 hrs * $59/hr/142 = $5,381.

⁸⁶ We assume that 800 Commission-jurisdictional interconnection requests will be made annually. For the purposes of this proposed rule, each of these requests is assumed to be made by a separate Interconnection Customer.

⁸⁷ This number is derived by multiplying the hourly figure for Interconnection Customers in the Burden Estimate table (900) plus an additional 750 hours associated with reviewing the draft facilities study report by the cost per hour ($59); plus the $300 fee per pre-application report multiplied by 800 Interconnection Customers; plus the $2,500 fee per supplemental review multiplied by 500 Interconnection Customers; all divided by the total number of Interconnection Customers (800). ((1,650 hrs * $59/hr) + ($300 * 800) + ($2,500 * 500))/800 = $1,984.

62. Based on the above, the Commission certifies that the new or revised requirements set forth in the proposed rule will not have a significant economic impact on a substantial number of small entities. Accordingly, no regulatory flexibility analysis is required.

XI. Comment Procedures

63. The Commission invites interested persons to submit comments on the matters and issues proposed in this notice to be adopted, including any related matters or alternative proposals that commenters may wish to discuss. Comments are due June 3, 2013. Comments must refer to Docket No. RM13-2-000, and must include the commenter's name, the organization they represent, if applicable, and their address in their comments.

64. The Commission encourages comments to be filed electronically via the eFiling link on the Commission's web site at http://www.ferc.gov. The Commission accepts most standard word processing formats. Documents created electronically using word processing software should be filed in native applications or print-to-PDF format and not in a scanned format. Commenters filing electronically do not need to make a paper filing.

65. Commenters that are not able to file comments electronically must send an original of their comments to: Federal Energy Regulatory Commission, Secretary of the Commission, 888 First Street NE., Washington, DC 20426.

66. All comments will be placed in the Commission's public files and may be viewed, printed, or downloaded remotely as described in the Document Availability section below. Commenters on this proposal are not required to serve copies of their comments on other commenters.

XII. Document Availability

67. In addition to publishing the full text of this document in the Federal Register, the Commission provides all interested persons an opportunity to view and/or print the contents of this document via the Internet through the Commission's Home Page (http://www.ferc.gov) and in the Commission's Public Reference Room during normal business hours (8:30 a.m. to 5:00 p.m. Eastern time) at 888 First Street NE., Room 2A, Washington, DC 20426.

68. From the Commission's Home Page on the Internet, this information is available on eLibrary. The full text of this document is available on eLibrary in PDF and Microsoft Word format for viewing, printing, and/or downloading. To access this document in eLibrary, type the docket number excluding the last three digits of this document in the docket number field.

69. User assistance is available for eLibrary and the Commission's Web site during normal business hours from the Commission's Online Support at 202-502-6652 (toll free at 1-866-208-3676) or email at ferconlinesupport@ferc.gov, or the Public Reference Room at (202) 502-8371, TTY (202) 502-8659. Email the Public Reference Room at public.referenceroom@ferc.gov.

List of Subjects in 18 CFR Part 35

Electric power rates, Electric utilities, and Reporting and recordkeeping requirements.

By direction of the Commission. Chairman Wellinghoff is not participating. Commissioner Clark is recused.
Nathaniel J. Davis, Sr.,
Deputy Secretary.

In consideration of the foregoing, the Commission proposes to revise Part 35, Chapter I, Title 18 of the Code of Federal Regulations as follows.

PART 35—FILING OF RATE SCHEDULES

1. The authority citation for Part 35 continues to read as follows:

Authority: 16 U.S.C. 791a-825r, 2601-2645; 31 U.S.C. 9701; 42 U.S.C. 7101-7352.

2. Revise § 35.28(f) to read as follows:

§ 35.28 Non-discriminatory open access transmission tariff.

* * * * *

(f) * * *

(1) Every public utility that is required to have on file a non-discriminatory open access transmission tariff under this section must amend such tariff by adding the standard interconnection procedures and agreement contained in Order No. 2003, FERC Stats. & Regs. ¶ 31,146 (Final Rule on Generator Interconnection), as amended by the Commission in Order No. 661, FERC Stats. & Regs. ¶ 31,186 (Final Rule on Interconnection for Wind Energy), and the standard small generator interconnection procedures and agreement contained in Order No. 2006, FERC Stats. & Regs. ¶ 31,180 (Final Rule on Small Generator Interconnection), as amended by the Commission in Order No. __, FERC Stats. & Regs. ¶ __ (Final Rule on Small Generator Interconnection Agreements and Procedures), or such other interconnection procedures and agreements as may be approved by the Commission consistent with Order No. 2003, FERC Stats. & Regs. ¶ 31,146 (Final Rule on Generator Interconnection), Order No. 2006, FERC Stats. & Regs. ¶ 31,180 (Final Rule on Small Generator Interconnection), and Order No. __, FERC Stats. & Regs. ¶ __ (Final Rule on Small Generator Interconnection Agreements and Procedures).

(i) The amendment to implement the Final Rule on Generator Interconnection required by the preceding subsection must be filed no later than January 20, 2004.

(ii) The amendment to implement the Final Rule on Small Generator Interconnection required by the preceding subsection must be filed no later than August 12, 2005.

(iii) The amendment to implement the Final Rule on Interconnection for Wind Energy required by the preceding subsection must be filed no later than December 30, 2005.

(iv) The amendment to implement the Final Rule on Small Generator Interconnection Procedures required by the preceding subsection must be filed no later than April 2, 2013.

(v) Any public utility that seeks a deviation from the standard interconnection procedures and agreement contained in Order No. 2003, FERC Stats. & Regs. ¶ 31,146 (Final Rule on Generator Interconnection), as amended by the Commission in Order No. 661, FERC Stats. & Regs. ¶ 31,186 (Final Rule on Interconnection for Wind Energy), or the standard small generator interconnection procedures and agreement contained in Order No. 2006, FERC Stats. & Regs. ¶ 31,180 (Final Rule on Small Generator Interconnection), as amended by the Commission in Order No. __, FERC Stats. & Regs. ¶ __ (Final Rule on Small Generator Interconnection Agreements and Procedures), must demonstrate that the deviation is consistent with the principles of either Order No. 2003, FERC Stats. & Regs. ¶ 31,146 (Final Rule on Generator Interconnection) or Order No. 2006, FERC Stats. & Regs. ¶ 31,180 (Final Rule on Small Generator Interconnection).

* * * * *

Note: Appendix A will not be published in the Code of Federal Regulations.

Appendix A: List of Short Names of Commenters on the SEIA Petition (Docket No. RM12-10-000) and the Technical Conference (Docket No. AD12-17-000)

Short name or acronym | Commenter
AEP | American Electric Power Service Corporation.
Amonix | Amonix.
Borrego | Borrego Solar Systems.
California ISO | California Independent System Operator Corporation.
California PUC | California Public Utilities Commission.
California Utilities | Pacific Gas and Electric Company, San Diego Gas & Electric Company, and Southern California Edison Company.
Clean Coalition | Clean Coalition.
Detroit Edison | Detroit Edison Company.
Duke | Duke Energy Corporation.
EEI | Edison Electric Institute.
Environmental Defense Fund | Environmental Defense Fund.
enXco | enXco Development Corporation.
IREC | Interstate Renewable Energy Council.
NARUC | National Association of Regulatory Utility Commissioners.
NRECA and APPA | National Rural Electric Cooperative Association and American Public Power Association.
NV Energy | Nevada Power Company and Sierra Pacific Power Company.
NJBPU | New Jersey Board of Public Utilities.
NRG | NRG Companies.
Pacific Gas and Electric | Pacific Gas and Electric Company.
Pepco | Pepco Holdings Inc., Atlantic City Electric Company, Delmarva Power & Light Company, and Potomac Electric Power Company.
PJM | PJM Interconnection, LLC.
Public Interest Organizations | Center for Rural Affairs, Climate + Energy Project, Conservation Law Foundation, Energy Future Coalition, Environmental Law & Policy Center, Fresh Energy, National Audubon Society, Natural Resources Defense Council, Northwest Energy Coalition, Pace Energy and Climate Center, Southern Environmental Law Center, Sustainable FERC Project, Sierra Club, Union of Concerned Scientists, and the Wilderness Society.
Recurrent Energy | Recurrent Energy.
San Diego Gas & Electric | San Diego Gas & Electric Company.
SEIA | Solar Energy Industries Association.
SolarCity | SolarCity Corporation.
SoCal Edison | Southern California Edison Company.
SunEdison | SunEdison LLC.
SunPower | SunPower Corporation.
Suntech | Suntech America.
USCHPA | United States Clean Heat & Power Association.

Note: Appendix B will not be published in the Code of Federal Regulations.

Appendix B

Note: Appendix C will not be published in the Code of Federal Regulations.

Appendix C to the Proposed Small Generator Interconnection Rule

| - ii -

Attachment 1

Attachment 2

Attachment 3

Certification Codes and Standards

IEEE1547 Standard for Interconnecting Distributed Resources with Electric Power Systems (including use of IEEE 1547.1 testing protocols to establish conformity)

UL 1741 Inverters, Converters, and Controllers for Use in Independent Power Systems

IEEE Std 929-2000 IEEE Recommended Practice for Utility Interface of Photovoltaic (PV) Systems

NFPA 70 (2002), National Electrical Code

IEEE Std C37.90.1-1989 (R1994), IEEE Standard Surge Withstand Capability (SWC) Tests for Protective Relays and Relay Systems

IEEE Std C37.90.2 (1995), IEEE Standard Withstand Capability of Relay Systems to Radiated Electromagnetic Interference from Transceivers

IEEE Std C37.108-1989 (R2002), IEEE Guide for the Protection of Network Transformers

IEEE Std C57.12.44-2000, IEEE Standard Requirements for Secondary Network Protectors

IEEE Std C62.41.2-2002, IEEE Recommended Practice on Characterization of Surges in Low Voltage (1000V and Less) AC Power Circuits

IEEE Std C62.45-1992 (R2002), IEEE Recommended Practice on Surge Testing for Equipment Connected to Low-Voltage (1000V and Less) AC Power Circuits

ANSI C84.1-1995 Electric Power Systems and Equipment—Voltage Ratings (60 Hertz)

IEEE Std 100-2000, IEEE Standard Dictionary of Electrical and Electronic Terms

NEMA MG 1-1998, Motors and Small Resources, Revision 3

IEEE Std 519-1992, IEEE Recommended Practices and Requirements for Harmonic Control in Electrical Power Systems

NEMA MG 1-2003 (Rev 2004), Motors and Generators, Revision 1

Attachment 4

Certification of Small Generator Equipment Packages

1.0 Small Generating Facility equipment proposed for use separately or packaged with other equipment in an interconnection system shall be considered certified for interconnected operation if (1) it has been tested in accordance with industry standards for continuous utility interactive operation in compliance with the appropriate codes and standards referenced below by any Nationally Recognized Testing Laboratory (NRTL) recognized by the United States Occupational Safety and Health Administration to test and certify interconnection equipment pursuant to the relevant codes and standards listed in SGIP Attachment 3, (2) it has been labeled and is publicly listed by such NRTL at the time of the interconnection application, and (3) such NRTL makes readily available for verification all test standards and procedures it utilized in performing such equipment certification, and, with consumer approval, the test data itself. The NRTL may make such information available on its Web site and by encouraging such information to be included in the manufacturer's literature accompanying the equipment.

2.0 The Interconnection Customer must verify that the intended use of the equipment falls within the use or uses for which the equipment was tested, labeled, and listed by the NRTL.

3.0 Certified equipment shall not require further type-test review, testing, or additional equipment to meet the requirements of this interconnection procedure; however, nothing herein shall preclude the need for an on-site commissioning test by the parties to the interconnection nor follow-up production testing by the NRTL.

4.0 If the certified equipment package includes only interface components (switchgear, inverters, or other interface devices), then an Interconnection Customer must show that the generator or other electric source being utilized with the equipment package is compatible with the equipment package and is consistent with the testing and listing specified for this type of interconnection equipment.

5.0 Provided the generator or electric source, when combined with the equipment package, is within the range of capabilities for which it was tested by the NRTL, and does not violate the interface components' labeling and listing performed by the NRTL, no further design review, testing or additional equipment on the customer side of the point of common coupling shall be required to meet the requirements of this interconnection procedure.

6.0 An equipment package does not include equipment provided by the utility.

7.0 Any equipment package approved and listed in a state by that state's regulatory body for interconnected operation in that state prior to the effective date of these small generator interconnection procedures shall be considered certified under these procedures for use in that state.

ATTACHMENT 5

Attachment 6

Attachment A to Feasibility Study Agreement

Attachment A to System Impact Study Agreement

Attachment 8

Attachment A to Facilities Study Agreement

Note: Appendix D will not be published in the Code of Federal

Appendix D to the Proposed Small Generator Interconnection Rule

Attachment 1

Glossary of Terms

Affected System—An electric system other than the Transmission Provider's Transmission System that may be affected by the proposed interconnection.

Applicable Laws and Regulations—All duly promulgated applicable federal, state and local laws, regulations, rules, ordinances, codes, decrees, judgments, directives, or judicial or administrative orders, permits and other duly authorized actions of any Governmental Authority.

Business Day—Monday through Friday, excluding Federal Holidays.

Default—The failure of a breaching Party to cure its breach under the Small Generator Interconnection Agreement.

Distribution System—The Transmission Provider's facilities and equipment used to transmit electricity to ultimate usage points such as homes and industries directly from nearby generators or from interchanges with higher voltage transmission networks which transport bulk power over longer distances. The voltage levels at which Distribution Systems operate differ among areas.

Distribution Upgrades—The additions, modifications, and upgrades to the Transmission Provider's Distribution System at or beyond the Point of Interconnection to facilitate interconnection of the Small Generating Facility and render the transmission service necessary to effect the Interconnection Customer's wholesale sale of electricity in interstate commerce. Distribution Upgrades do not include Interconnection Facilities.

Good Utility Practice—Any of the practices, methods and acts engaged in or approved by a significant portion of the electric industry during the relevant time period, or any of the practices, methods and acts which, in the exercise of reasonable judgment in light of the facts known at the time the decision was made, could have been expected to accomplish the desired result at a reasonable cost consistent with good business practices, reliability, safety and expedition. Good Utility Practice is not intended to be limited to the optimum practice, method, or act to the exclusion of all others, but rather to be acceptable practices, methods, or acts generally accepted in the region.

Governmental Authority—Any federal, state, local or other governmental regulatory or administrative agency, court, commission, department, board, or other governmental subdivision, legislature, rulemaking board, tribunal, or other governmental authority having jurisdiction over the Parties, their respective facilities, or the respective services they provide, and exercising or entitled to exercise any administrative, executive, police, or taxing authority or power; provided, however, that such term does not include the Interconnection Customer, the Interconnection Provider, or any Affiliate thereof.

Interconnection Customer—Any entity, including the Transmission Provider, the Transmission Owner or any of the affiliates or subsidiaries of either, that proposes to interconnect its Small Generating Facility with the Transmission Provider's Transmission System.

Interconnection Facilities—The Transmission Provider's Interconnection Facilities and the Interconnection Customer's Interconnection Facilities. Collectively, Interconnection Facilities include all facilities and equipment between the Small Generating Facility and the Point of Interconnection, including any modification, additions or upgrades that are necessary to physically and electrically interconnect the Small Generating Facility to the Transmission Provider's Transmission System. Interconnection Facilities are sole use facilities and shall not include Distribution Upgrades or Network Upgrades.

Interconnection Request—The Interconnection Customer's request, in accordance with the Tariff, to interconnect a new Small Generating Facility, or to increase the capacity of, or make a Material Modification to the operating characteristics of, an existing Small Generating Facility that is interconnected with the Transmission Provider's Transmission System.

Material Modification—A modification that has a material impact on the cost or timing of any Interconnection Request with a later queue priority date.

Network Upgrades—Additions, modifications, and upgrades to the Transmission Provider's Transmission System required at or beyond the point at which the Small Generating Facility interconnects with the Transmission Provider's Transmission System to accommodate the interconnection of the Small Generating Facility with the Transmission Provider's Transmission System. Network Upgrades do not include Distribution Upgrades.

Operating Requirements—Any operating and technical requirements that may be applicable due to Regional Transmission Organization, Independent System Operator, control area, or the Transmission Provider's requirements, including those set forth in the Small Generator Interconnection Agreement.

Party or Parties—The Transmission Provider, Transmission Owner, Interconnection Customer or any combination of the above.

Point of Interconnection—The point where the Interconnection Facilities connect with the Transmission Provider's Transmission System.

Reasonable Efforts—With respect to an action required to be attempted or taken by a Party under the Small Generator Interconnection Agreement, efforts that are timely and consistent with Good Utility Practice and are otherwise substantially equivalent to those a Party would use to protect its own interests.

Small Generating Facility—The Interconnection Customer's device for the production of electricity identified in the Interconnection Request, but shall not include the Interconnection Customer's Interconnection Facilities.

Tariff—The Transmission Provider or Affected System's Tariff through which open access transmission service and Interconnection Service are offered, as filed with the FERC, and as amended or supplemented from time to time, or any successor tariff.

Transmission Owner—The entity that owns, leases or otherwise possesses an interest in the portion of the Transmission System at the Point of Interconnection and may be a Party to the Small Generator Interconnection Agreement to the extent necessary.

Transmission Provider—The public utility (or its designated agent) that owns, controls, or operates transmission or distribution facilities used for the transmission of electricity in interstate commerce and provides transmission service under the Tariff. The term Transmission Provider should be read to include the Transmission Owner when the Transmission Owner is separate from the Transmission Provider.

Transmission System—The facilities owned, controlled or operated by the Transmission Provider or the Transmission Owner that are used to provide transmission service under the Tariff.

Upgrades—The required additions and modifications to the Transmission Provider's Transmission System at or beyond the Point of Interconnection. Upgrades may be Network Upgrades or Distribution Upgrades. Upgrades do not include Interconnection Facilities.

Attachment 2

Description and Costs of the Small Generating Facility, Interconnection Facilities, and Metering Equipment

Equipment, including the Small Generating Facility, Interconnection Facilities, and metering equipment shall be itemized and identified as being owned by the Interconnection Customer, the Transmission Provider, or the Transmission Owner. The Transmission Provider will provide a best estimate itemized cost, including overheads, of its Interconnection Facilities and metering equipment, and a best estimate itemized cost of the annual operation and maintenance expenses associated with its Interconnection Facilities and metering equipment.

Attachment 3

One-line Diagram Depicting the Small Generating Facility, Interconnection Facilities, Metering Equipment, and Upgrades

Attachment 4

Attachment 5

Additional Operating Requirements for the Transmission Provider's Transmission System and Affected Systems Needed to Support the Interconnection Customer's Needs

The Transmission Provider shall also provide requirements that must be met by the Interconnection Customer prior to initiating parallel operation with the Transmission Provider's Transmission System.

Attachment 6

Transmission Provider's Description of its Upgrades and Best Estimate of Upgrade Costs

The Transmission Provider shall describe Upgrades and provide an itemized best estimate of the cost, including overheads, of the Upgrades and annual operation and maintenance expenses associated with such Upgrades. The Transmission Provider shall functionalize Upgrade costs and annual expenses as either transmission or distribution related.

[FR Doc. 2013-01366 Filed 1-31-13; 8:45 am]

BILLING CODE 6717-01-P